DEPARTMENT OF HOUSING AND URBAN DEVELOPMENT

[Docket No. FR-4628-N-01]

Notice of Funding Availability: Resident Opportunities and Self Sufficiency (ROSS) Grants to Support Public Housing Apprenticeship Activities in the Construction Trades and Public Housing Operations

AGENCY: Office of the Assistant Secretary for Public and Indian Housing, HUD.

ACTION: Notice of Funding Availability (NOFA).

SUMMARY: Purpose of the Program. The Resident Opportunities and Self Sufficiency (ROSS) Program links services to public housing residents by providing grants for supportive services, resident empowerment activities and activities to assist residents in becoming economically self sufficient. This NOFA announces HUD's intention to award to eligible housing authorities grants to support employment and training opportunities for residents living in public housing through Apprenticeship activities and programs. As part of the ROSS program, the Public Housing apprenticeship related grants will provide job training and ensure bonafide apprenticeship and employment opportunities in the construction trades and public housing operations that will lead to self sufficiency for public housing residents. This NOFA provides guidelines for the use of these funds. Under this program announcement, applicants will establish programs that will lead to program participants being enrolled in apprenticeship programs registered by the Department of Labor, Bureau of Apprenticeship and Training (BAT) or a BAT-recognized State Apprenticeship Agency (SAC). The term of awards under this NOFA shall not exceed three years.

Available Funds. Approximately $3 million is being made available for the Public Housing Apprenticeship Program under this NOFA.

Eligible Applicants. Public Housing Agencies (PHAs).

Application Deadline. Applications are due February 26, 2001.

Match. A match of at least 25% of the grant amount must be included as part of the proposal from a partner. This match does not have to be a cash match. The match may be in-kind and/or cash.

I. Application Due Date, Application Kit, Further Information and Technical Assistance

Application Due Date. Your completed application (one original and two copies) is due on or before 12:00 midnight, Eastern time, on February 26, 2001.

Address for Submitting Applications. Submit the original and one copy of your application to Grants Management Center (GMC), 501 School Street, SW, Suite 800, Washington, DC 20024.

Submit the second copy of your application to the local HUD Field Office with delegated public or assisted housing responsibilities attention: Director, Office of Public Housing. See Appendix A to this NOFA for a list of HUD offices with delegated responsibility. The original application and one copy must be sent to the GMC.

The Grants Management Center is the official place of receipt for all applications in response to this NOFA. For ease of reference, the term “local HUD Field Office” will be used throughout this NOFA to mean the local HUD Field Office Hub and local HUD Field Office Program Center.

Delivered Applications. If you are hand delivering your application, your application is due on or before 5:00 p.m., Eastern time, on the application due date to the Office of Public and Indian Housing's Grants Management Center (GMC) in Washington, DC. A copy is also to be submitted by the applicant to the local HUD Field Office.

This application deadline is firm as to date and hour. In the interest of fairness to all competing PHAs, HUD will not consider any application that is received after the application deadline. Applicants should take this practice into account and make early submission of their materials to avoid any risk of loss of eligibility brought about by unanticipated delays or other delivery-related problems. HUD will not accept, at any time during the NOFA competition, application materials sent via facsimile (FAX) transmission.

Mailed Applications. Applications sent by U. S. mail will be considered timely filed if postmarked before midnight on the application due date and received within ten (10) days of that date.

Applications Sent by Overnight Delivery. Applications sent by overnight delivery will be considered timely filed if received before or on the application due date, or upon submission of documentary evidence that they were placed in transit with the overnight delivery service by no later than the specified application due date.

Application Kit. An application kit is not available and is not necessary for submitting an application for funding under this NOFA. This NOFA contains all of the information necessary for the submission of an application in connection with this NOFA.

On the application due date, hand carried applications will be accepted until 12:00 midnight in the South Lobby at HUD Headquarters, 451 Seventh Street, SW., Washington, DC 20410.

For Further Information and Technical Assistance. You may contact the local HUD field office where you will be submitting your application or you may call the Public and Indian Housing Information and Resource Center at 1-800-955-2232.

For Further Information Contact: Paula O. Blunt, Director, Office of Customer Services and Amenities, Department of Housing and Urban Development, 451 Seventh Street SW., Room 4226, Washington, DC 20410, telephone number (202) 619-8201. (This is not a toll free number.) Hearing- or speech-impaired persons may contact the Federal Information Relay Service on (202) 708-9300 or 1-800-877-8339 (this is a toll free number) for information on the program.

II. Authority, Purpose, Amount Allocated and Eligibility

(A) Authority. Funding for the ROSS Program is provided in the Departments of Veterans Affairs and Housing and Urban Development and Independent Agencies Appropriations Act for Fiscal Year 1999 (Pub.L. 105-276, 112 Stat. 2461, approved October 21, 1998) (the FY 1999 Appropriations Act).

(B) Purpose. The ROSS program links services to public housing residents by providing grants for supportive services, resident empowerment activities and activities to assist residents in becoming economically self sufficient.

In an effort to address “Welfare to Work” and to promote economic self sufficiency for public housing residents, the Department is undertaking an initiative under ROSS to support public housing apprenticeship activities in the construction trades and public housing operations.

Public housing agencies, in performing their property management function, manage operations related to construction, repair and maintenance, renovation, demolition, vacant-unit rehabilitation, removal of toxic substances, and the abatement and in-place management of lead-based paint and dust.

In addition, section 3 of the Housing and Urban Development Act of 1968 (12 U.S.C. 1701u) (Economic Opportunities for Low and Very-Low Income Persons) requires PHAs, their contractors and subcontractors to make their best effort to give low- and very-low income persons the training and employment opportunities generated by development and operating assistance and modernization grants.

The purpose of the Public Housing Apprenticeship Program is to provide training and educational opportunities, pre-apprenticeship activities, apprenticeship activities, supportive services and employment opportunities to public housing residents in collaboration with labor management organizations and/or sponsors of registered apprenticeship programs. Apprenticeship programs serving public housing residents may also need to provide preparatory courses and supportive services in order for the participants to successfully complete the apprenticeship program and compete in the job market. The objective of such preparatory courses are to ready the participants for more intensive occupational skills training that will follow. This program allows for such activities.

Eligible PHAs will create partnerships with labor management organizations and/or other sponsors of registered apprenticeship programs. Prospective or potential partners may also include affiliates of labor management organizations. These labor management organizations and/or other sponsors of registered apprenticeship programs must subsequently recruit, train, mentor, provide work experience, and place public housing residents in apprenticeship programs registered by the Department of Labor, Bureau of Apprenticeship and Training (BAT) or a BAT-recognized State Apprenticeship Agency (SAC).

Under an executed Memorandum of Understanding (MOU), participating labor management organizations and/or other sponsors of registered apprenticeship programs shall assume a leadership role and primary responsibility for organizing local multi-employer associations to support the proposed apprenticeship training activities and provide avenues for permanent employment.

If training takes place on public housing developments, Federal labor standards apply to laborers and mechanics employed on public housing developments. Specifically, where laborers and mechanics (other than apprentices registered in an apprenticeship program registered with a BAT or a SAC) are employed on public housing developments as they work with the apprentices, they must be paid Davis-Bacon prevailing wage rates if they are employed in development work or they must be paid HUD-determined wage rates if they are employed in the operation of the housing, unless they qualify as volunteers under 24 CFR part 70.

(C) Amount Allocated. This NOFA announces the availability of $3 million of ROSS funds for the Public Housing Apprenticeship Program. ROSS grant awards to support the Public Housing Apprenticeship Program will range from $250,000 to $500,000. See Section IV (D) and (E) for specific information on Negotiations and Adjustments to Funding.

(D) Eligible Applicants. Eligible applicants are PHAs.

(E) Eligible Program Participants. At least 75% percent of the persons participating and receiving benefits from this apprenticeship program must be residents of conventional public housing; and any other persons (up to 25% percent per grantee) participating or receiving benefits from these programs must be recipients of Section 8 assistance. In addition, you must provide a certification that at least 51 percent of those served by your proposed activities are residents affected by welfare reform.

Program participants must be public housing residents and may include adults as well as youth age 16 to 24 years of age.

Upon completion of the registered apprenticeship program, job placement must be provided for successful program participants.

The Public Housing Apprenticeship Program does not impose any additional requirements related to existing Federal and State wages and benefits, labor standards, and nondiscrimination requirements. If training takes place on public housing developments, Federal labor standards apply to laborers and mechanics employed on public housing developments. Specifically, where laborers and mechanics (other than apprentices registered in an apprenticeship program registered with a BAT or a SAC) are employed on public housing developments as they work with the apprentices, they must be paid Davis-Bacon prevailing wage rates if they are employed in development work or they must be paid HUD-determined wage rates if they are employed in the operation of the housing, unless they qualify as volunteers under 24 CFR part 70.

Successful applicants must provide reasonable accommodations to individuals with disabilities who wish to participate in the programs and activities funded under this NOFA. Housing agencies participating in this apprenticeship program will not be prevented from using funds from non-Federal sources to increase wages and benefits under the program, if appropriate.

(F) Eligible Activities. Eligible activities include:

(1) Creation of partnerships between eligible PHAs and labor management organizations and/or other sponsors or prospective sponsors of registered apprenticeship programs. These PHA partner organizations must subsequently recruit, train, mentor, provide work experience, and place public housing residents in Department of Labor (DOL) or SAC-approved apprenticeship programs;

(2) Training costs associated with the acquisition, rehabilitation, or construction of the housing and related facilities to be used in the program. Training skills may include, but are not limited to, construction, repair and renovation that are related to the physical needs of public housing, such as the replacement and repair of equipment and fixtures, vacant unit rehabilitation, removal of toxic substances and lead-based paint abatement;

(3) Education, job training, counseling, english as a second language, driver's training, employment and leadership development services and other activities, that are related to the needs of participants to carry out this program;

(4) Supportive services, transportation costs, and child care costs, as needed while the participant is enrolled in the program; and

(5) Wages, benefits and stipends for participants receiving preparatory training or education required prior to entering a registered apprenticeship program or an employment opportunity.

(G) Ineligible Activities. (1) Funds under the public housing apprenticeship program may not be used as wages for permanent employment;

(2) No more than 20 percent of the total grant amount may be used for administrative costs.

(3) Wages, benefits and stipends for participants while participating in an apprenticeship program or an employment opportunity.

III. General Requirements

(A) General Program Requirements

(1) Compliance With Fair Housing and Civil Rights Laws. All applicants must comply with all fair housing and civil rights laws, statutes, regulations, and executive orders as enumerated in 24 CFR 5.105(a). If an applicant: (a) Has been charged with a systemic violation of the Fair Housing Act by the Secretary alleging ongoing discrimination; (b) is the defendant in a Fair Housing Act lawsuit filed by the Department of Justice alleging an ongoing pattern or practice of discrimination; or (c) has received a letter of noncompliance findings under Title VI of the Civil Rights Act of 1964, section 504 of the Rehabilitation Act of 1973, or section 109 of the Housing and Community Development Act of 1974, the applicant's application will not be evaluated under this NOFA if, prior to the application deadline, the charge, lawsuit, or letter of findings has not been resolved to the satisfaction of the Department. HUD's decision regarding whether a charge, lawsuit, or a letter of findings has been satisfactorily resolved will be based upon whether appropriate actions have been taken necessary to address allegations of ongoing discrimination in the policies or practices involved the charge, lawsuit, or letter of findings.

(2) HUD will not rank and rate your application under this NOFA if the charge, lawsuit, or letter of findings has not been resolved to the satisfaction of the Department before the application deadline. HUD's decision regarding whether a charge, lawsuit, or a letter of findings has been satisfactorily resolved will be based upon whether appropriate actions have been taken to address allegations of ongoing discrimination in the policies or practices involved in the charge, lawsuit, or letter of findings.

(3) Additional Nondiscrimination Requirements. In addition to compliance with the civil rights requirements listed at 24 CFR 5.105(a), each successful applicant must comply with the nondiscrimination in employment requirements of Title VII of the Civil Rights Act of 1964 (42 U.S.C. 2000e et seq.), the Equal Pay Act (29 U.S.C. 206(d)), the Age Discrimination in Employment Act of 1967 (29 U.S.C. 621 et seq.), Title IX of the Education Amendments Act of 1972, and Titles I and V of The Americans with Disabilities Act (42 U.S.C. 12101 et seq.)

(4) Economic Opportunities for Low and Very Low-Income Persons (Section 3). All applicants must comply with section 3 of the Housing and Urban Development Act of 1968, 12 U.S.C. 1701u (Economic Opportunities for Low and Very Low-Income Persons in connection with assisted developments) and the HUD regulations at 24 CFR part 135, including the reporting requirements in subpart E of this part. Section 3 requires recipients to ensure that, to the greatest extent feasible, training, employment and other economic opportunities will be directed to (1) low and very low income persons, particularly those who are recipients of government assistance for housing and (2) business concerns which provide economic opportunities to low and very low-income persons.

(B) Definitions

Registered Apprenticeship Program means a formalized, structured training program approved and registered by the United States Department of Labor, Bureau of Apprenticeship and Training (BAT), or by a BAT-recognized State Apprenticeship Agency (SAC), as meeting the basic standards and requirements for approval of such programs as set forth in 29 CFR part 29.

Pre-Apprenticeship program as used herein means a course of preparatory training and/or work experience for participants in advance of individual registration in a BAT- or SAC approved apprenticeship program. Pre-apprenticeship is an organized course(s) in which candidates will be selected for a limited term of intensified training with the intent to place them into a registered apprenticeship upon completion or soon after completion of the pre-apprenticeship course. Useful skills, such as construction orientation, math and literacy skills, tool identification and care, construction trade terminology, basic safety, life skills, etc. are usually part of the pre-apprenticeship training provided.

Registered Apprenticeship Program Sponsors provide access to apprentice positions for residents living in public housing where they are employed and receiving wages while they receive formalized, structured on-the-job training and classroom instruction which lead to journeyman status in highly skilled trades or maintenance operations.

Memorandum of Understanding is an agreement executed by the PHA and by the labor management organizations and/or others as partners who will undertake collaborative efforts to address the needs of public housing residents seeking access to registered apprenticeship positions through proper preparation to help candidates meet the basic entry requirements for apprenticeship.

IV. Application Selection Process for Public Housing Apprenticeship Activities

(A) Three types of reviews will be conducted: A screening to determine if your application submission is complete and on time; a threshold review to determine applicant eligibility; and a technical review to rate your application based on the five rating factors provided in this section. A minimum score of 75 is required to be considered for funding.

(B) The selection process is designed to achieve geographic diversity of grant awards throughout the country. HUD will first select the highest ranked application in each of the ten federal regions for funding. After this “round,” HUD will select the second highest ranked application in each of the ten federal regions for funding (the second round). HUD will continue this process with the third, fourth, and so on, highest ranked applications in each federal region until the last complete round is selected for funding. If available funds exist to fund some but not all eligible applications in the next round, HUD will make awards to those remaining applications in rank order regardless of region and will fully fund as many as possible with remaining funds.

(C) Factors for Award Used to Evaluate and Rate Applications. The factors for rating and ranking applicants and maximum points for each factor are provided below. The maximum number of points available for this program is 102. This includes two bonus points for Empowerment Zones (EZs)/Enterprise Communities (ECs). A certification must be completed for the applicant to be considered for EZ/EC bonus points. For a listing of federally designated EZs and ECs see Appendix B. An application must receive a total of 75 points out of 100 to be eligible for funding.

Rating Factor 1: Capacity of the Applicant and Relevant Organizational Experience (20 Points)

This factor addresses the extent to which the applicant has the organizational resources necessary to successfully implement the proposed apprenticeship activities in a timely manner. In rating this factor HUD will consider the extent to which the proposal demonstrates:

(1) Proposed Program Staffing (7 Points)

(a) Experience. (4 Points) The knowledge and experience of your proposed project director and staff, including the day-to-day program manager, and partners in planning and managing programs for which funding is being requested. Your experience will be judged in terms of recent, relevant and successful experience to undertake eligible program activities.

(b) Sufficiency. (3 Points) You and your partners have sufficient personnel or will be able to quickly access qualified experts or professionals, to deliver the proposed activities in each proposed service area in a timely and effective fashion, including your readiness and ability to immediately begin the proposed work program. To demonstrate sufficiency, you must submit the proposed number of staff years to be allocated to your program by employees and experts, the titles and relevant professional background and experience of each employee and expert proposed to be assigned to your program, and the roles to be performed by each identified employee and expert.

(2) Program Administration and Fiscal Management (7 Points)

(a) Program Administration. (4 Points) The soundness of the proposed management of your proposed Apprenticeship Program. To receive a high score, you must provide a comprehensive description of your project management structure. Your narrative must provide a description of how you and your other partners relate to the program administrator as well as the lines of authority and accountability among all components of your proposed apprenticeship program.

(b) Fiscal Management. (3 Points) The soundness of your proposed fiscal management. To receive a high score you must provide a comprehensive description of the fiscal management structure, including, but not limited to, budgeting, fiscal controls, and accounting. The application must identify the staff responsible for fiscal management, and the processes and timetable for implementation during the proposed grant period.

(3) Applicant/Administrator Track Record (6 Points)

To receive a high score, you must demonstrate your (or your proposed Administrator's) program compliance and successful implementation of any resident self-sufficiency, security or independence oriented grants (including those listed below) awarded to you or overseen by your Administrator. If you or your Administrator has no prior experience in operating programs that foster resident self-sufficiency, security or independence you will receive a score of 0 on this factor. Your past experience may include, but is not limited to, administering the following grants: Family Investment Center Program; Youth Development Initiative under Family Investment Center Program; Youth Apprenticeship Program; Apprenticeship Demonstration in the Construction Trades Program; Urban Youth Corps Program; HOPE I Program; Public Housing Service Coordinator Program; Public Housing Drug Elimination Program; Tenant Opportunities Program; Economic Development and Supportive Services; Youth Sports Program; and Resident Opportunities and Self Sufficiency (ROSS) Program.

Rating Factor 2: Need/Extent of the Problem (20 Points)

This factor addresses the extent to which there is a need for funding your proposed apprenticeship program activities to address a documented problem in the target area. You will be evaluated on the extent to which you document a critical level of need in the development or your proposed activities in the area where activities will be carried out. In responding to this factor, you will be evaluated on:

(1) A Needs Assessment Document (18 Points)

HUD will award up to 18 points based on the quality and comprehensiveness of the needs assessment document. To obtain maximum points for your application, this document must contain statistical data which provides:

(a) A thorough socioeconomic profile of the eligible residents to be served by your program, in relationship to PHA-wide and national public and assisted housing data on residents who are on TANF (temporary assistance for needy families), SSI benefits, or other fixed income arrangements; in job training, entrepreneurship, or community service programs; and employed;

(b) Specific information on training, contracting, and employment through the PHA.

(c) An assessment of the current service delivery system as it relates to the needs of the target population, including the number and type of services, the location of services, and community facilities currently in use; and

(d) A description of the goals, objectives, and program strategies that will result in the successful transition of residents from welfare-to-work and a description of how eligible participants will be recruited.

(2) Level of Priority in Consolidated Plan (2 Points)

Documentation of the level of priority the locality's, or in the case of small cities, the State's, Consolidated Plan has placed on addressing the needs. You may also address needs in terms of fulfilling the requirements of court actions or other legal decisions or which expand upon the Analysis of Impediments to Fair Housing Choice (AI) to further fair housing. If you address needs that are in your community's Consolidated Plan, AI, or a court decision, or identify and substantiate needs in addition to those in the AI, you will receive a greater number of points than applicants who do not relate their proposed program to the approved Consolidated Plan or AI or court action. There must be a clear relationship between your proposed activities, community needs and the purpose of the program funding for you to receive points for this factor.

Rating Factor 3: Soundness of Approach (40 Points)

This factor addresses the quality and cost-effectiveness of your proposed apprenticeship work plan. In rating this factor HUD will consider: the viability and comprehensiveness of your strategies to address the needs of residents; budget appropriateness/efficient use of grant; the speed at which you can realistically accomplish the goals of the proposed apprenticeship program; the soundness of your plan to evaluate the success of your proposed apprenticeship program at completion and during program implementation; and resident and other partnerships; and policy priorities.

(1) Viability and comprehensiveness of the strategies to address the needs of residents (15 Points)

The score under this sub-factor will be based on the viability and comprehensiveness of your strategies to address the needs of residents.

Services. (15 Points) The score under this sub-factor will be based on the following:

(i) The extent to which your plan provides services that specifically address the successful transition from welfare to work of residents. To receive a high score, your plan must include case management/counseling, job training/development/placement, child care, and transportation services, as needed.

(ii) A description of training and placement activities for the registered apprenticeship program;

(iii) A description of efforts to provide job placement for participates in the registered apprenticeship program;

(iv) A description of how program participants' supportive services needs will be met;

(v) Specifically, for those residents affected by welfare reform, the number of residents to receiving training, or the number of residents to be employed.

(2) Budget Appropriateness/Efficient Use of Grant (5 Points)

The score in this factor will be based on the following:

(a) Detailed Budget Break-Out. The extent to which your application includes a detailed budget break-out for each budget category in the SF-424A.

(b) Reasonable Administrative Costs. The extent to which your application includes administrative costs at or below the 20% administrative cost ceiling.

(c) Budget Efficiency. The extent to which your application requests funds commensurate with the level of effort necessary to accomplish your goals and anticipated results.

(3) Reasonableness of the Timetable (2 Points)

The score in this factor will be based on a reasonable response that you can accomplish the goals of your proposed apprenticeship program. To receive a high score, you must demonstrate that it will make substantial program implementation progress within the first six months after grant execution, including putting staff in place, and other milestones that are prerequisites for implementation of the program. In addition, you must demonstrate that your proposed timetable for all components of the proposed program is feasible considering the size of your award and activities and results that can be accomplished within the 36-month time limit.

(4) Program Assessment (13 Points)

The score in this factor will be based on the soundness of your plan to evaluate the success of your proposed apprenticeship program both at the completion of your program and during program implementation. At a minimum, you must track the goals and objectives of your proposed work plan program, which must include, if applicable, a plan for monitoring your Contract Administrator's performance. Your application should track specific measurable achievements for the use of these program funds, such as the number of persons successfully completing training, pre-apprenticeship programs, and registered apprenticeship training programs, number of residents placed in permanent employment, salary scales of jobs obtained, the number of persons removed from welfare rolls and section 3 compliance.

(5) Resident Involvement in Apprenticeship Activities ( 5 Points)

The score in this factor will be based on the extent of resident involvement in developing your proposed apprenticeship program as well as the extent of proposed resident involvement in implementing your proposed apprenticeship program. To receive a high score on this factor, you must describe the involvement of residents in the planning phase for this program, and a commitment to provide continued involvement in grant implementation. For applicants to receive the maximum number of points, a work plan, must be included.

Rating Factor 4: Leveraging Resources (10 Points)

This factor addresses your ability to secure community resources (note: financing is a community resource) that can be combined with HUD's program resources to achieve program purposes. You must have at least a 25% cash or in-kind match to receive points under this rating factor. Leveraging in excess of the 25% of the grant amount will receive a higher point value. In evaluating this factor HUD will consider:

The extent to which you have partnered with other entities to secure additional resources to increase the effectiveness of your proposed program activities. The budget, the work plan, and commitments for additional resources and services, other than the grant, must show that these resources are firmly committed, will support the proposed grant activities and will, in combined amount (including in-kind contributions of personnel, space and/or equipment, and monetary contributions) equal at least 25% of the apprenticeship grant amount proposed in this application. “Firmly committed” means there must be a written agreement with the provider of resources, signed by an official legally able to make commitments on behalf of the organization. The signed, written agreement may be contingent upon you receiving a grant award. Other resources and services may include: the value of in-kind services, contributions or administrative costs provided to the applicant; funds from Federal sources (not including ROSS funds); funds from any State or local government sources; and funds from private contributions. You may also partner with other program funding recipients to coordinate the use of resources in your target area.

You must provide evidence of leveraging/partnerships by including in the application letters of firm commitments, Memoranda of Understanding, or agreements to participate from those entities identified as partners in the application. To be firmly committed there must be a written agreement with the provider of resources signed by an official legally able to make commitments on behalf of the organization. This agreement may be contingent upon you receiving a grant award. Each letter of commitment, Memorandum of Understanding, or agreement to participate should include the organization's name, proposed level of commitment and responsibilities as they relate to the proposed program.

Rating Factor 5: Comprehensiveness and Coordination (10 Points)

This factor addresses the extent to which your program reflects a coordinated, community-based process of identifying needs and building a system to address the needs by using available HUD funding resources and other resources available to the community.

In evaluating this factor HUD will consider the extent to which your application addresses:

(1) Coordination With the Consolidated Plan (2 Points)

Demonstrates the applicant has reviewed the community's Consolidated Plan and/or Analysis of Impediments to Fair Housing Choice, and has proposed activities that address the priorities, needs, goals or objectives in those documents; or affirmatively furthers fair housing choice in the community.

(2) Coordination With Welfare Agencies (8 Points)

Provides evidence that your proposed apprenticeship program supports the PHA's efforts to increase resident self-sufficiency and is consistent with the State, or local Welfare Plan/Agency.

(D) Negotiation. After HUD has rated and ranked all applications and has made selections, HUD may require, depending upon the program, that all winners participate in negotiations to determine the specific terms of the grant agreement and budget. In cases where HUD cannot successfully conclude negotiations with a selected applicant or a selected applicant fails to provide HUD with requested information, an award will not be made to that applicant. In this instance, HUD may offer an award to the next highest applicant, and proceed with negotiations with the next highest ranking applicant.

(E) Adjustments to Funding. (1) HUD reserves the right to fund less than the full amount requested in your application to ensure the fair distribution of the funds and to ensure that the purposes of a specific program are met.

(2) HUD will not fund any portion of your application that is not eligible for funding under specific program statutory or regulatory requirement; which do not meet the requirements of this NOFA. Only eligible portions of your application may be funded.

(3) If funds remain after funding the highest ranking applications, HUD may fund part of the next highest ranking application in a given program. If you, the applicant, turn down the award offer, HUD will make the same determination for the next highest ranking application.

(4) In the event HUD commits an error that, when corrected, would result in selection of an otherwise eligible applicant during the funding round of this NOFA, HUD may select that applicant when sufficient funds become available.

V. Application Submission Requirements for the Public Housing Apprenticeship Program

All applications for funding under the Public Housing Apprenticeship Program must contain the following documents and information (Please note that items A-E are threshold requirements used to determine scoring of rating and ranking factors for this NOFA. Please note also that the documents and information should be presented in the application in the order requested):

(A) Your application must contain a written certification that at least 51 percent of the public housing residents (including Section 8 tenants as applicable) to be included in the proposed program are currently eligible to receive, are currently receiving, or have received within the preceding four years, assistance or services funded under the TANF, SSI, or food stamp programs.

(B) Your application must contain letter(s) of support indicating supplemental grant funds of not less than 25% of the grant amount.

(C) You must provide either a signed certification from HUD or an Independent Public Accountant that your financial management system and procurement procedures fully comply with 24 CFR part 85, or your application must contain a signed Contract Administrator Partnership Agreement that you will use the services of a Contract Administrator in administering your grant. Applicants that are troubled PHAs are required to provide evidence that a Contract Administrator has been retained for the term of the grant.

(D) You must certify that your PHA is in compliance with Fair Housing and Civil Rights Laws as discussed in III General Program Requirements section above shall be part of that threshold review.

(E) Your application must contain a signed Memorandum of Understanding (MOU) between the PHA and the participating labor management organization and/or other sponsors of registered apprenticeship programs. The MOU must describe specific roles, responsibilities and activities to be undertaken by the parties including the party that assumes primary responsibility for organizing local multi-employer associations. Your MOU, at a minimum must identify the principal parties (i.e., the name of the PHA and other partners) the terms for each party, and an indication of how the agreement supports the proposed apprenticeship program. The MOU must be precise and outline the specific duties and objectives to be accomplished. All MOUs must be finalized, dated and signed by duly authorized officials of the PHA and its partner(s).

(F) Responses to Factors of Award must be narrative statements or descriptions indicated below and should be submitted in the order presented below and identified by using the titles presented below (e.g., Factor 1—Capacity of the Applicant and Relevant Organizational Experience):

Factor 1—Capacity of the Applicant and Relevant Organizational Experience;

Program Staffing

Applicant/Administrator Track Record

Factor 2—Need/Extent of the Problem (including a Budget Work Plan Summary);

Factor 3—Soundness of Approach;

Factor 4—Leveraging Resources; and

Factor 5—Comprehensiveness and Coordination.

Certification of Consistency with the Consolidated Plan Bonus Points

Certification of Consistency with the EZ/EC Strategic Plan

VI. Application Submission Requirements

(A) All Applications. All applications for assistance under this ROSS competition for the Public Housing Apprenticeship Program regardless of funding categories must include the following forms, certifications and assurances. These forms are:

SF-424, Application Federal Assistance;

HUD-424M, Federal Assistance Funding Matrix;

SF-424A, Federal Assistance Budget Information—Non Construction;

SF-424B, Assurances for Non-Construction Programs;

HUD Form 50070, Drug-Free Workplace Certification;

HUD Form 50071, Certification of Payments to Influence Federal Transactions, and if applicable SF-LLL, Disclosure of Lobbying Activities;

HUD Form 2880, Applicant/Recipient Disclosure/Update Report;

HUD Form 2992, Certification of Debarment and Suspension;

HUD Form 2993, Acknowledgment of Application Receipt.

(B) Match Requirement. (1) You must supplement grant funds with an in-kind and/or cash match of not less than 25% of the grant amount. This match does not have to be a cash match. The match may include: the value of in-kind services, contributions or administrative costs provided to the applicant; funds from Federal sources (but not ROSS funds); funds from any State or local government sources; and funds from private contributions. Any services, such as child care or mentoring, conducted by elderly or disabled residents who are not TANF participants, will not be counted toward your match requirement.

(2) You must demonstrate that the cash or in-kind resources and services, which you will use as match amounts (including resources from a Comprehensive Grant Program, other governmental units/agencies of any type, and/or private sources, whether for-profit or not-for-profit), are firmly committed and will support the proposed grant activities. “Firmly committed” means there must be a written agreement to provide the resources and services signed by an official legally able to make commitments on behalf of the organization and specifies the cash and/or in-kind assistance to be provided.

If offering in-kind assistance, the letter should provide an estimated dollar value for the in-kind services. The written agreement may be contingent upon your receiving a grant award. The following are guidelines for valuing certain types of in-kind contributions:

(a) The value of volunteer time and services shall be computed at a rate of six dollars per hour except that the value of volunteer time and services involving professional and other special skills shall be computed on the basis of the usual and customary hourly rate paid for the service in the community where the activity is located; and

(b) The value of any donated material, equipment, building, or lease shall be computed based on the fair market value at time of donation. Such value shall be documented by bills of sales, advertised prices, appraisals, or other information for comparable property similarly situated not more than one-year old taken from the community where the item or activity is located, as appropriate.

(c) Laborers and mechanics wishing to donate their labor while employed in the development or operation of public housing must meet the requirements of 24 CFR part 70 in order to be considered volunteers. In such cases, their labor shall be valued in accordance with the Davis-Bacon or HUD-determined wage rate that would otherwise apply to such work.

(C) Affirmatively Further Fair Housing. All applicants must provide a statement addressing efforts to affirmatively further Fair Housing. The areas to be addressed in the PHA's statement should include, but not necessarily be limited to:

(1) An examination of the PHA's programs or proposed programs, identify any impediments to fair housing choice within those programs, address those impediments in a reasonable fashion in view of the resources available, work with local jurisdictions to implement any of the jurisdictions initiatives to affirmatively further fair housing that require the PHAs involvement, and maintain records reflecting these analyses and actions;

(2) Remedies used to eliminate housing discrimination; or

(3) Activities used to promote fair housing rights and fair housing choice.

VII. Corrections to Deficient Applications

After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any selection factors. In order not to unreasonably exclude applications from being rated and ranked, HUD may, however, contact applicants to ensure proper completion of the application and will do so on a uniform basis for all applicants. Examples of curable (correctable) technical deficiencies include your failure to submit the proper certifications or your failure to submit an application that contains an original signature by an authorized official. In each case, HUD will notify you in writing by describing the clarification or technical deficiency. HUD will notify applicants by facsimile or by mail or other delivery service with return receipt requested. You must submit clarifications or corrections of technical deficiencies in accordance with the information provided by HUD within 14 calendar days of the date of receipt of the HUD notification. (If the due date falls on a Saturday, Sunday, or Federal holiday, your correction must be received by HUD on the next day that is not a Saturday, Sunday, or Federal holiday.) If your deficiency is not corrected within this time period, HUD will reject your application as incomplete, and it will not be considered for funding.

VIII. Findings and Certifications

Paperwork Reduction Act Statement

The information collection requirements contained in this NOFA have been submitted to the Office of Management and Budget for approval under the Paperwork Reduction Act of 1980 (44 U.S.C. 3501-3520). The OMB control number when assigned will be published by separate notice in the Federal Register. An agency may not conduct or sponsor, and a person is not required to respond to, a collection of information unless the collection displays a valid control number.

Environmental Impact

A Finding of No Significant Impact with respect to the environment has been made in accordance with HUD regulations at 24 CFR part 50 that implement section 102(2)(C) of the National Environmental Policy Act of 1969 (42 U.S.C. 4332). The Finding of No Significant Impact is available for public inspection during regular business hours in the Office of the General Counsel, Regulations Division, Room 10276, U.S. Department of Housing and Urban Development, 451 Seventh Street, SW, Washington, DC 20410-0500.

Catalog of Federal Domestic Assistance Numbers

The Federal Domestic Assistance number for this program is 14.870.

Federalism Impact

Executive Order 13132 (captioned “Federalism”) prohibits, to the extent practicable and permitted by law, an agency from promulgating a regulation that has federalism implications and either imposes substantial direct compliance costs on State and local governments and is not required by statute, or preempts State law, unless the relevant requirements of section 6 of the Executive Order are met. None of the provisions in this NOFA will have federalism implications and they will not impose substantial direct compliance costs on State and local governments or preempt State law within the meaning of the Executive Order. As a result, the notice is not subject to review under the Order.

Accountability in the Provision of HUD Assistance

Section 102 of the Department of Housing and Urban Development Reform Act of 1989 (HUD Reform Act) and the regulations in 24 CFR part 4, subpart A contain a number of provisions that are designed to ensure greater accountability and integrity in the provision of certain types of assistance administered by HUD. On January 14, 1992 (57 FR 1942), HUD published a notice that also provides information on the implementation of section 102. HUD will comply with the documentation, public access, and disclosure requirements of section 102 with regard to the assistance awarded under this NOFA, as follows:

(1) Documentation and public access requirements. HUD will ensure that documentation and other information regarding each application submitted pursuant to this NOFA are sufficient to indicate the basis upon which assistance was provided or denied. This material, including any letters of support, will be made available for public inspection for a 5-year period beginning not less than 30 days after the award of the assistance. Material will be made available in accordance with the Freedom of Information Act (5 U.S.C. 552) and HUD's implementing regulations at 24 CFR part 15. In addition, HUD will include the recipients of assistance pursuant to this NOFA in its Federal Register notice of all recipients of HUD assistance awarded on a competitive basis.

(2) Disclosures. HUD will make available to the public for 5 years all applicant disclosure reports (HUD Form 2880) submitted in connection with this NOFA. Update reports (also Form 2880) will be made available along with the applicant disclosure reports, but in no case for a period less than 3 years. All reports—both applicant disclosures and updates—will be made available in accordance with the Freedom of Information Act (5 U.S.C. 552) and HUD's implementing regulations at 24 CFR part 15.

Section 103 HUD Reform Act

HUD will comply with section 103 of the Department of Housing and Urban Development Reform Act of 1989 and HUD's implementing regulations in subpart B of 24 CFR part 4 with regard to the funding competition announced today. These requirements continue to apply until the announcement of the selection of successful applicants. HUD employees involved in the review of applications and in the making of funding decisions are limited by section 103 from providing advance information to any person (other than an authorized employee of HUD) concerning funding decisions, or from otherwise giving any applicant an unfair competitive advantage. Persons who apply for assistance in this competition should confine their inquiries to the subject areas permitted under section 103 and subpart B of 24 CFR part 4.

Applicants or employees who have ethics related questions should contact HUD's Ethics Law Division at (202) 708-3815. (This is not a toll-free number.) For HUD employees who have specific program questions, such as whether particular subject matter can be discussed with persons outside HUD, the employee should contact the appropriate Field Office Counsel.

Prohibition Against Lobbying Activities

Applicants for funding under this NOFA are subject to the provisions of section 319 of the Department of Interior and Related Agencies Appropriation Act for Fiscal Year 1991 (31 U.S.C. 1352) (the Byrd Amendment) and to the provisions of the Lobbying Disclosure Act of 1995 (Pub. L. 104-65; approved December 19, 1995).

The Byrd Amendment, which is implemented in regulations at 24 CFR part 87, prohibits applicants for Federal contracts and grants from using appropriated funds to attempt to influence Federal executive or legislative officers or employees in connection with obtaining such assistance, or with its extension, continuation, renewal, amendment, or modification. The Byrd Amendment applies to the funds that are the subject of this NOFA. Therefore, applicants must file a certification stating that they have not made and will not make any prohibited payments and, if any payments or agreement to make payments of nonappropriated funds for these purposes have been made, a form SF-LLL disclosing such payments must be submitted.

The Lobbying Disclosure Act of 1995 (Pub. L. 104-65; approved December 19, 1995), which repealed section 112 of the HUD Reform Act, requires all persons and entities who lobby covered executive or legislative branch officials to register with the Secretary of the Senate and the Clerk of the House of Representatives and file reports concerning their lobbying activities.

IX. Authority

Section 34 of the U.S. Housing Act of 1937 (42 U.S.C. 1437z-6); Pub.L. 105-276, 112 Stat. 2461, approved October 21, 1998

Dated: November 21, 2000.
Harold Lucas,
Assistant Secretary for Public and Indian Housing.

Appendix A—HUD's Public Housing Area Offices

HUD Field Offices

New England Region

Boston

James Wallace, Office of Public Housing, DHUD—Massachusetts State Office, Thomas P. O'Neill, Jr. Federal Building, 10 Causeway Street, Room 553, Boston, MA 02222-1092, (617) 565-5197 fax (617) 565-5257

Hartford

Office of Public Housing, DHUD—Connecticut State Office, 19th Floor, One Corporate Center, Hartford, CT 06103-3220, (860) 240-4800 or (860) 240-4850

Manchester

Robin Gagnin, Office of Public Housing, DHUD—New Hampshire State Office, Norris Cotton Federal Building, 275 Chestnut Street, Manchester, NH 03101-2487, (603) 666-7470 or fax (603) 666-7714

Providence

James Wallace from Boston (Cri), Office of Public Housing, DHUD—Rhode Island State Office, 10 Weybosset Street, 6th Floor, Providence, RI 02903-3234, (401) 528-5372 or (401) 528-5370

New York/New Jersey Region

New York

Jed Abrams, Office of Public Housing, DHUD—New York State Office, 26 Federal Plaza, Suite 32-116, New York, New York 10278-0068, (212) 264-8931 fax (212) 264-0246

Buffalo

Joan Spilman, Office of Public Housing, DHUD—Buffalo State Office, Lafayette Court, 465 Main Street, Fifth Floor, Buffalo, New York 14203-5755, (716) 551-5919 or -5755 fax (716) 551-5755

New Jersey

Kelly Peterson, Office of Public Housing, DHUD—New Jersey State Office, One Newark Center, 13th Floor, Newark, NJ 07102-5260, (973) 622-7900 ext. 3600 fax (973) 645-6239

Mid-Atlantic Region

Philadelphia

Office of Public Housing, DHUD—Pennsylvania State Office, The Wanamaker Building, 100 Penn Square East, Philadelphia, PA 19107-3390, (215) 656-0576 or 0579, ext. 3308, fax (215) 656-3433

Baltimore

Dana Johnson, Office of Public Housing, DHUD—Maryland State Office, City Crescent Building, 10 South Howard Street, 5th Floor, Baltimore, Maryland 21201-2505, (410) 962-2520 ext. 3102 fax (410) 962-0668

West Virginia

Henry Miller, Office of Public Housing, DHUD—West Virginia State Office, Kanawha Valley Building, 405 Capitol Street, Suite 708, Charleston, WV 25301-1795, (304) 347-7057 fax (304) 347-7045

Pittsburgh

Office of Public Housing, DHUD—Pittsburgh Area Office, 339 Sixth Avenue, 6th Floor, Pittsburgh, PA 15222-2515, (412) 644-6571 fax (412) 644-6499

Virginia

Yolanda Webster, Office of Public Housing, DHUD—Virginia State Office, The 3600 Centre, 3600 West Broad Street, P.O. Box 90331, Richmond, VA 23230-0331, (804) 278-4500 ext. 3217 fax (804) 278-4603

District of Columbia

Office of Public Housing, DHUD—District of Columbia Office, 820 First Street, NE., Suite 450, Washington, DC 20002-4205, (202) 275-7965 ext 3175 fax (202) 275-0779

Southeast Region

Atlanta

Lesley Ciski, Office of Public Housing, DHUD—Georgia State Office, Richard B. Russell Federal Building, 75 Spring Street, SW, Atlanta, GA 30303-3388, (404) 331-4766 fax (404) 730-2365

Alabama

Debra Pippen, Office of Public Housing, DHUD—Alabama State Office, Beacon Ridge Tower, 600 Beacon Parkway West, #300, Birmingham, AL 35209-4144, (205) 290-7601 ext 1101 fax (205) 290-7593

Columbia

Sylvestor Fulton, Office of Public Housing, DHUD—South Carolina State Office, Strom Thurmond Federal Building, 1835 Assembly Street, Columbia, SC 29201-2480, (803) 765-5831 or (806) 765-5515

Greensboro

Judy Hiller, Office of Public Housing, DHUD—North Carolina State Office, Koger Building, 2306 West Meadowview Road, Greensboro, NC 27407-3707, (336) 547-4038 fax (336) 547-4015

Mississippi

George Smith, Office of Public Housing, DHUD—Mississippi State Office, Doctor A. H. McCoy Federal Building, 100 West Capitol Street, Room 910, Jackson, MS 39269-1016, (601) 965-4761 fax (601) 965-4773

Coral Gables

Georgia Lebron, Office of Public Housing, DHUD—Florida State Office, Gables I Towers, Suite 501, 1320 South Dixie Street, Coral Gables, FL 33146-2911, (305) 662-4589 (alt. 2270) fax (305) 662-4519

Jacksonville

Aisha Williamson, Office of Public Housing, DHUD—Jacksonville Area Office, Southern Bell Tower, 301 West Bay Street, Suite 2200, Jacksonville, FL 32202-5121, (904) 232-1777 ext. 2142 fax (904) 232-3759

Kentucky

Carol Spenser, Office of Public Housing, DHUD—Kentucky State Office, 601 West Broadway, Post Office Box 1044, Louisville, KY 40201-1044, (502) 582-6163 ext. 370 fax (502) 582-6074

Knoxville, TN

Joyce Baker, Office of Public Housing, DHUD—Knoxville Area Office, John J. Duncan Federal Building, 710 Locust Street, Third Floor, Knoxville, TN 37902-2526, (423) 545-4402 ext. 4 fax (423) 545-4569

Nashville, TN

Karen Gill, Office of Public Housing, DHUD—Tennessee State Office, 251 Cumberland Bend Drive, Suite 200, Nashville, TN 37228-1803, (615) 736-5063 ext. 6132 fax (615) 736-2886

San Juan, PR

Office of Public Housing, DHUD—Caribbean Office, Administracion de Terrenos Building, 171 Carlos E. Chardon Avenue, Suite 301, San Juan, PR 00916-0903, (787) 766-5400 ext. 2031 fax (787) 766-5995

Mid-West Region

Chicago

Office of Public Housing, DHUD—Illinois State Office, Ralph H. Metcalfe Federal Building, 77 West Jackson Boulevard, Chicago, IL 60604-3507, (312) 353-1915 or (312) 353-6236 ext. 2302 fax (312) 353-0121

Cincinnati

Larry Dempsey, Office of Public Housing, DHUD—Cincinnati Area Office, 525 Vine Street, Suite 700, Cincinnati, OH 45202-3188, (513) 684-2533 fax (513) 684-6224

Cleveland

Office of Public Housing, DHUD—Cleveland Area Office, Renaissance Building, 1350 Euclid Avenue, Suite 500, Cleveland, OH 44115-1815, (216) 522-2700 fax (216) 522-2975

Columbus

David Kelner, Office of Public Housing, DHUD—Ohio State Office, 200 North High Street, Columbus, OH 43215-2499, (614) 469-5787, ext. 8224 or (614) 469-2949 fax (614) 469-2432

Detroit

Office of Public Housing

DHUD—Michigan State Office, Patrick V. McNamara Federal Building, 477 Michigan Avenue, Detroit, MI 48226-2592, (313) 226-6880, ext. 8111 fax (313) 226-5611

Grand Rapids

Office of Public Housing, DHUD—Grand Rapids Area Office, 50 Louis Street, NW, 3rd Floor, Grand Rapids, Michigan 49503, (616) 456-2127

Indianapolis

Office of Public Housing, DHUD—Indiana State Office, 151 North Delaware Street, Suite 1200, Indianapolis, IN 46204-2556, (317) 226-6557 fax (317) 226-6317

Milwaukee

Beverly Carter, Office of Public Housing, DHUD—Wisconsin State Office, Henry S. Reuss Federal Plaza, 310 West Wisconsin Avenue, Suite 1380, Milwaukee, WI 53203-2289, (414) 297-1029 ext. 8212 fax (414) 297-3947

Minneapolis

Lucy Beckwell, Office of Public Housing, DHUD—Minnesota State Office, 220 South Second Street, Minneapolis, Minnesota 55401-2195, (612) 370-3171 ext. 2220 fax (612) 370-3220

Southwest Region

Fort Worth

Roman Palamores, Office of Public Housing, DHUD—Texas State Office, 1600 Throckmorton, Post Office Box 2905, Fort Worth, TX 76113-2905, (817) 978-9325, ext. 3332 fax (817) 978-9289

Albuquerque

Carmella Herrera, Office of Public Housing, DHUD—New Mexico State Office, 625 Silver Avenue, S.W., Suite 100, Albuquerque, N.M. 87102-3185, (505) 346-7355 fax (505) 346-6604

Houston

Debbie Alexander, Office of Public Housing, DHUD—Houston Area Office, Norfolk Tower, 2211 Norfolk, Suite 200, Houston, TX 77098-4096, (713) 313-2274 (alt. 2280) fax (713) 313-2319

Little Rock

Janie Allen, Office of Public Housing, DHUD—Arkansas State Office, TCBY Tower, 425 West Capitol Avenue, Suite 900, Little Rock, AR 72201-3488, 324-5933 fax (501) 324-5900

New Orleans

Janice Manuel, Office of Public Housing, DHUD—Louisiana State Office, 501 Magazine Street, Ninth Floor, New Orleans, LA 70130, (504) 589-7235 fax (504) 589-6619

Oklahoma City

Office of Public Housing, DHUD—Oklahoma State Office, 500 West Main Street, Oklahoma City, OK 73102, (405) 553-7454 fax (405) 553-7588

San Antonio

Office of Public Housing, DHUD—San Antonio Area Office, Washington Square, 800 Dolorasa Street, San Antonio, TX 78207-4563, (210) 475-6865 fax (210) 472-6804

Great Plains Region

Kansas City

Office of Public Housing, DHUD—Kansas/Missouri State Office, Gateway Tower II, 400 State Avenue, Kansas City, KS 66101-2406, (913) 551-5582 or (913) 551-6916, fax (913) 551-5416

Des Moines

Kathy Winter, Office of Public Housing, DHUD—Iowa State Office, Federal Building, 210 Walnut Street, Room 29, Des Moines, IA 50309-2155, (515) 284-4315 fax (515) 284-4895

Omaha

Charlie Hill, Office of Public Housing, DHUD—Nebraska State Office, Executive Tower Centre, 10909 Mill Valley Road, Omaha, NE 68154-3955, (402) 492-3137 fax (402) 492-3150

St. Louis

Bob Diesbach, Office of Public Housing, DHUD—St. Louis Area Office, Robert A. Young Federal Building, 1222 Spruce Street, St. Louis, MO 63103-2836, (314) 539-6505 fax (314) 539-6384

Rocky Mountain Region

Denver

Thomas Washington, Office of Public Housing, DHUD—Colorado State Office, First Interstate Tower North, 633—17th Street, 12th Floor, Denver, CO 80202-3607, (405) 672-5380 fax (405) 672-5061

Pacific Hawaii Region

San Francisco

Tom Bitek, Office of Public Housing, DHUD—California State Office, Phillip Burton Federal Building/Courthouse, 450 Golden Gate Avenue, 9th Floor, San Francisco, CA 94102-3448, (415) 436-8375 fax (415) 436-8375

Phoenix

(Denver Office Handles Resident Initiatives)

Office of Public Housing, DHUD—Arizona State Office, Two Arizona Center, 400 North 5th Street, Suite 1600, Phoenix, AZ 85004-2361, (602) 379-3045

Los Angeles

Lydia Morales, Office of Public Housing, DHUD—Los Angeles Area Office, AT&T Center, 611 West 6th Street, Suite 800, Los Angeles, CA 90017-3127, (213) 894-8000 ext 3500 fax (213) 894-8096

Sacramento

Office of Public Housing, DHUD—Sacramento Area Office, 777 12th Street, Suite 200, Sacramento, CA 95814-1997, (916) 498-5220 ext. 421

NW/Alaska Region

Seattle

Office of Public Housing, DHUD—Washington State Office, Seattle Federal Office Building, 909 1st Avenue, Suite 360, Seattle, WA 98104-1000, (206) 220-5290 Ext 3694 fax (206) 220-5133

Portland

Office of Public Housing, DHUD—Oregon State Office, 400 Southwest Sixth Avenue, Suite 700, Portland, OR 97204-1596, (503) 326-2619 fax (503) 326-2568

Appendix B—EZ/EC Main Contact List

High Performers as of August, 1999

Empowerment Zones (26)

CA, Los Angeles

Robert Perez, City of Los Angeles, Community Development Department, 215 West 6th Street, Third Floor, Los Angeles, CA 90014, 213-485-5725 (Phone), 213-237-0551 (Fax)

David Eder, City of Los Angeles, Community Development Department, 215 West 6th Street, Third Floor, Los Angeles, CA 90014, 213-485-2956 (Phone), 213-237-0890 (Fax)

CA, Santa Ana, (EZ)

Ms. Cindy Nelson, Executive Director, Community Devel. Agency, 20 Civic Center Plaza—M-25, Santa Ana, CA 92702, 714-647-5360 (Phone), 714-647-6549 (Fax)

CT, New Haven (EZ—EC)

Ms. Diana Edmonds, City of New Haven, 200 Orange Street, 5th Floor, New Haven, CT 06510, 203-946-7727 (Phone), 203-946-8049 (Fax)

FL, Miami/ Dade County (EZ—EC)

Mr. Tony E. Crapp, Sr., Office of Economic Development, 140 West Flagler, Suite 1000, Miami, FL 33130-1561, 305-375-3431 (Phone), 305-375-3428 (Fax)

GA, Atlanta

Mr. Joseph Reid, Exec. Director, Atlanta EZ Corporation, 675 Ponce De Leon Avenue, Second Floor—Suite 2100, Atlanta, GA 30308, www.atlantapd.org/ez/ezfact.html, 404-853-7610 (Phone), 404-853-7315 (Fax)

IL, Chicago

Mr. Ronald Carter, Jr., City of Chicago, 20 North Clark Street, 28th Floor, Chicago, IL 60602, 312-744-9623 (Phone), 312-744-9696 (Fax)

IN, Gary, E. Chicago (EZ)

Mr. Taghi Arshani, Office of Planning & Community Development, 475 Broadway, Suite 318, Gary, IN 46402, 219-881-5075 (Phone), 219-881-5085 (Fax)

KY, Kentucky Highlands EZ—Clinton, Jackson, Wayne Counties

Jerry Rickett, Kentucky Highlands Investment Corporation, 362 Old Whitley Rd., London, KY 40741, 606-864-5175 (Phone), 606-864-5194 (Fax)

MD, Baltimore,

Ms. Diane Bell, Empower Baltimore Management Corporation, 111 S. Calvert Street, Suite 1550, Baltimore, MD 21202, 410-783-4400 (Phone), 410-783-0526 (Fax)

MA, Boston (EZ-EEC)

Ms. Juanita Wade, Chief of Human Services, Suite 603, Boston City Hall, Boston, MA 02201, 617-635-2953 (Phone), 617-635-3496 (Fax)

Mr. Reginald Nunnally, Boston Business Assistance Center, Boston Empowerment Zone 20, Hampden Street, Boston, MA 02119, 617-445-3413 (Phone), 617-445-5675 (Fax)

MI, Detroit

Mr. Paul Bernard, Executive Director, City of Detroit Planning and Development, 2300 Cadillac Tower Building,

Detroit, MI 48226, www.ezsis.org/commune/detroit/ez/index.htm, 313-224-6389 (Phone), 313-224-1629 (Fax)

Denise Gray, Executive Director, Detroit Empowerment Zone Corporation, 1 Ford Place, Suite 2D, Detroit, MI 48202, 313-872-8050 (Phone), 313-872-8002 (Fax)

MN, Minneapolis (EZ-EC)

Mr. Ken Brunsvold, Office of Grants & Special Project, 350 South Fifth Street, City Hall, Room 200, Minneapolis, MN 55415, 612-673-2348 (Phone), 612-673-2728 (Fax)

MO, St. Louis/E. St. Louis, IL (EZ-EC)

Mr. Chad Cooper, St. Louis Development Corporation, 105 Locust Street, Ste. 1200, St. Louis, MO 63101, st.louis.missouri.org./enterprise/index.html, 314-622-3400 (Phone), 314-231-2341 (Fax)

IL, East St. Louis (EC ONLY), Mr. Percy Harris, City of East St. Louis, 301 River Park Dr., East St. Louis, IL 62201, 618-482-6642 (Phone), 618-482-6648 (Fax)

NJ, Cumberland CO, (EZ)

Mr. Stephen Kehs, Executive Director, Cumberland County Dept. of Planning and Development, 800 E. Commerce Street, Bridgeton, NJ 08302, 609-453-2175 (Phone), 609-453-9138 (Fax)

New York, NY (Main Contact)

Mr. James Ilaco, Special Counsel and Corporate Secretary, New York Empowerment Zone Corporation, 633 3rd Avenue, New York, NY 10017, 212-803-3240 (Phone), 212-803-3294 (Fax)

NY, New York (Bronx)

Mr. Jose Ithier, Bronx Overall Economic Development Corporation, 198 East 161st Street, Second Floor, Bronx, NY 10451, 718-590-3549 (Phone), 718-590-3499 (Fax)

NY, New York (Upper Manhattan)

Ms. Deborah Wright, Director, Upper Manhattan Empowerment Zone Development Corporation, 290 Lenox Avenue, 3rd Flr., New York, NY 10027, 212-410-0030 (Phone), 212-410-9616 (Fax)

OH, Cincinnati (EZ)

Mr. Timothy Sharp, City Hall, 801 Plum Street, Room 104, Cincinnati, OH 45202, 513-352-2457 (Phone), 513-352-2458/or 513-352-5357 (Fax)

OH, Cleveland

Ms. Yvette Mosby Director, Cleveland Empowerment Zone, 601 Lakeside Avenue, City Hall, Room 335, Cleveland, OH 44114, 216-664-3083 (Phone), 216-420-8522 (Fax)

OH, Columbus (EZ-EC)

Mr. John Beard, Columbus Compact Corporation, 815 East Mound Street, Suite 108, Columbus, OH 43205, www.iwaynet.net/~ccc/ 614-251-0926 (Phone), 614-251-2243 (Fax)

OH, Columbus

Mr. Patrick Grady, Economic Development Administrator, 99 North Front Street, Columbus, OH 43215, 614-645-7574 (Phone), 614-645-7855 (Fax)

PA, Philadelphia/NJ, Camden

Eva Gladstein, Executive Director, City of Philadelphia, 1515 Arch Street, 1 Parkway, 9th Flr., Philadelphia, PA 19103, www.phila.gov/agencies/empower/emzone.html 215-683-0462 (Phone), 215-683-0493 (Fax)

Mr. Richard Cummings, Chairperson, Camden Empowerment Zone Corporation, 412 North Second Street, Camden, NJ 08104, 609-541-2836 (Phone), 609-541-8457 (Fax)

Mr. Brian Finnie, City of Camden Empowerment Zone Corp., 800 Hudson Square, Suite 300, Camden, NJ 08102, 609-365-0300 (Phone), 609-365-1058 (Fax)

SC, Sumter, Columbia (EZ)

Ms. Leona Plaugh, Assistant City Manager, City of Columbia, Dept. of Community Service, 1225 Laurel Street, Columbia, SC 29201, 803-733-8313 (Phone), 803-733-8312 (Fax)

TN, Knoxville (EZ)

Ms. Jeanette Kelleher, Community Development Administrator, City/County Building, 400 Main Street, Room 514, Knoxville, TN 37902, 423-215-2120 (Phone), 423-215-2962 (Fax)

TX, Rio Grande Valley EZ (Cameron, Hidalgo, Starr, Willacy Counties)

Bonnie Gonzalez, Rio Grande Valley Empowerment Zone, 301 S. Texas, Mercedes, TX 78570, 210-514-4000 (Phone), 210-514-4007 (Fax)

TX, El Paso (EZ-EC)

Ms. Deborah G. Hamlyn, City of El Paso, #2 Civic Center Plaza, 9th Floor, El Paso, TX 79901-1196, 915-541-4643 (Phone), 915-541-4370 (Fax)

VA, Norfolk/Portsmouth (EZ-EC)

Ms. Eleanor R. Bradshaw, Norfolk Works, 201 Granby Street, Ste. 100A, Norfolk, VA 23510, 757-624-8650 (Phone), 757-622-4623 (Fax)

WV, Huntington/Ironton, OH (EZ-EC)

Ms. Cathy Burns, Community Development and Planning, 800 Fifth Avenue, Suite 14, P.O. Box 1659, Huntington, WV 25717, 304-696-4486 (Phone), 304-696-4465 (Fax)

Enhanced Enterprise Communities (4)

CA, Oakland

Mr. William Claggett, Executive Director, Kathy Kessler, Spec. Assistant, Community & Economic Devel. Agency, City of Oakland, 250 Frank H. Ogawa Plaza, Ste. 3330, Oakland, CA 94612-2032, 510-238-3303 (Phone), 510-238-6538 (Fax)

Mr. Lonnie Carter, Community & Economic Devel. Agency, City of Oakland, 250 Frank H. Ogawa Plaza, Ste. 3315, Oakland, CA 94612-2032, 510-238-3716 (Phone), 510-238-6956 (Fax)

KS, Kansas City and MO, Kansas City (EEC-Strategic Planning Comm.)

Mr. Cal Bender, MARC, 600 Broadway, 300 Rivergate Center, Kansas City, MO 64105-1554, 816-474-4240 (Phone), 816-421-7758 (Fax)

MA, Boston (See EZ)

TX, Houston

Ms. Judith Butler, Mayor's Office, 901 Bagby Street, City Hall, 4th Floor, Houston, TX 77002, www.ci.houston.texas.us, 713-247-2666 (Phone), 713-247-3985 (Fax)

Enterprise Communities

AL, Birmingham (EC-Strategic Planning Comm.)

Ms. Alice Ann Whetzel, City of Birmingham, 710 N. 20th Street, City Hall, Room 224, Birmingham, AL 35203, 205-254-2870 (Phone), 205-254-2541 (Fax)

AL, Chambers County EC

David Shaw, East Alabama Regional Planning and Development Commission, P.O. Box 2186, Anniston, AL 36202, 205-237-6741 (Phone), 205-237-6763 (Fax)

AZ, Arizona Border Region EC—Cochise, Santa Cruz, Yuma Counties

Joel Viers, Coordinator, AZ Border Region EC, 118 Arizona St., Bisbee, AZ 85603, 520-432-5301 (Phone), 520-432-5858 (Fax)

AZ, Phoenix

Mr. Ed Zuercher, City of Phoenix, 200 West Washington Street, 12th Floor, Phoenix, AZ 85003-1611, 602-261-8532 (Phone), 602-261-8327 (Fax)

CA, Huntington Park EC

Mr. Parker C. Anderson, Los Angeles City & County, 215 W. 6th St., Los Angeles, CA 90014, 213-485-1617 (Phone), 213-237-0551 (Fax)

CA, Imperial County EC

Maria Matthews, Imperial County Community Economic Development, 836 Main St., El Centro, CA 92243, 619-337-7814 (Phone), 619-337 8907 (Fax)

CA, San Diego

Ms. Bonnie Contreras, City of San Diego, 202 C Street MS 3A, San Diego, CA 92101, 619-236-6846 (Phone), 619-236-6512 (Fax)

CA, San Francisco

Anna Yee, City of San Francisco, San Francisco Enterprise Community Program, 25 Van Ness Avenue, Suite 700, San Francisco, CA 94102, 415-252-3100 (Phone), 415-252-3110 (Fax)

CA, City of Watsonville/County of Santa Cruz EC

Carlos Palacios, City of Watsonville, 215 Union St., 2nd Floor, Watsonville, CA 95076, 408-728-6011 (Phone), 408-761-0736 (Fax)

CO, Denver

Mr. Ernest Hughes, City of Denver, 200 W. 14th Avenue, Room 203, Denver, CO 80204, 303-640-5734 (Phone), 303-640-4636 (Fax)

CT, Bridgeport

Ms. Janice Willis, Director, City of Bridgeport Central Grants Office, 45 Lyon Terrece, Room 317, Bridgeport, CT 06604, 203-332-5662 (Phone), 203-332-5657 (Fax)

District of Columbia

Ms. Madiene Hall, EC Coordinator, 51 N Street, NE, Washington, DC 20002, 202-535-1346 (Phone), 202-535-1559 (Fax)

District of Columbia

Ms. Louisa Montero-Diaz, Director of Development, Office of Grants & Management, 717 14th Street, NW 12th Floor, Washington, DC 20005, 202-727-6537 (Phone), 202-727-1617 (Fax)

DE, Wilmington

Mr. James Walker, Wilmington Enterprise Community, Louis L. Redding City/County Building, 800 French Street, 9th Floor, Wilmington, DE 19801, 302-571-4189 (Phone), 302-571-4102 (Fax)

FL, Jackson County EC

William Rimes, 4288 Lafayette St., P.O. Box 130, Marianna, FL 32447, 904-526-4005 (Phone), 904-482-8002 (Fax)

FL, Tampa

Ms. Jeanette Fenton, City of Tampa, 2105 N. Nebraska Avenue, Tampa, FL 33605 www.hud.gov/local/tam/tam_ecez.html, 813-274-7959 (Phone), 813-274-7927 (Fax)

GA, Albany

Julie Duke, City Manager's Office, 225 Pine Avenue, Albany, GA 31701, 912-431-3234 (Phone), 912-431-3223 (Fax)

GA, Central Savannah River Area EC (Burke, Hancock, Jefferson, McDuffie, Tallafero, Warren Counties)

Grady Sampson, CSRA Regional Development Center, P.O. 40 4729 Quaker Rd., Suite C, Keysville, GA 30816, 706-554-0342 (Phone), 706-554-6626 (Fax)

IA, Des Moines

Ms. Caroline Gathright, City of Des Moines, 602 East First Street, Des Moines, IA 50309, 515-283-4151 (Phone), 515-237-1713 (Fax)

IL, Springfield

Mr.Timothy Rowles, Office of Economic Development, 231 South Sixth St., Springfield, IL 62701, 217-789-2377 (Phone), 217-789-2380 (Fax)

IN, Indianapolis

Ms. Jennifer Fults, Grants Manager, Ms. Amy Arnold, Grants Analyst, Div. of Comm. Development & Financial Services, 1860 City County Building, Indianapolis, IN 46204, 317-327-5899 (Phone), 317-327-7876 (Phone), 317-327-5908 (Fax)

KY, Louisville (EC-Strategic Planning Comm.)

Ms. Carolyn Gatz, Empowerment Zone Community, 601 West Jefferson St., Louisville, KY 40202, 502-574-4210 (Phone), 502-574-4201 (Fax)

LA, Macon Ridge EC—Catahoula, Concordia, Franklin, Morehouse, Tensas Counties

Buddy Spillers and Chip Rogers, Macon Ridge Economic Development Region, Inc., 903 Louisiana Ave., P.O. Drawer 746, Ferriday, LA 71334, 318-757-3033 (Phone), 318-757-4212 (Fax)

LA, New Orleans (EC-Strategic Planning Comm.)

Ms. Thelma H. French, Office of Federal and State Programs, 1300 Perdido Street, Room 2E10, New Orleans, LA 70112, 504-565-6414 (Phone), 504-565-6423 (Fax)

LA, Northeast Louisiana Delta EC—Madison County

Moses Junior Williams, Northeast Louisiana Delta EC, 400 E. Craig St., Suite B, Tallulah, LA 71282, 318-574-0995, 318-574-0995

LA, Ouachita Parish

Mr. Eric Loewe, Ouachita Community Enhancement Zone, Inc., P.O. Box 4268, Monroe, LA 71211, 318-329-4031 (Phone), 318-329-4034 (Fax)

MA, Lowell

Ms. Sue Beaton, Department of Planning and Development, City Hall—JFK Civic Center 50 Arcand Drive, Lowell, MA 01852, 978-970-7150 (Phone), 978-446-7014 (Fax)

MA, Springfield

Mr. Miguel Rivas, Community Development Department, 36 Court Street, Springfield, MA 01103, 413-787-7666 (Phone), 413-787-6027 (Fax)

MI, Flint

Mr. Larry Foster, Township of Mount Morris, G-5447 Bicentennial Parkway, Mount Morris Township, MI 48458, www.flint.umich.edu/departments/pura/stratzo.htm, 810-785-9138 (Phone), 810-785-2545 (Fax)

Ms. Nancy Jurkiewicz, City of Flint, 1101 South Saginaw Street, Flint, MI 48502, 810-766-7436 (Phone), 810-766-7351 (Fax)

MI, Muskegon

Ms. Cathy Brubaker-Clarke, City of Muskegon, Economic Development Department, 933 Terrace Street, Muskegon, MI 49443, 616-724-6702 (Phone), 616-724-6790 (Fax)

Ms. Reatha Anderson, Department of Planning and Community Development, 2724 Peck Street, Muskegon Heights, MI 49444, 616-733-1355 (Phone), 616-733-7382 (Fax)

MN, St. Paul

Ms. Harriet Horwath, City of St. Paul, Planning and Economic Development, 25 West Fourth Street, St. Paul, Minnesota 55102, 651-266-6591 (Phone), 651-228-3341 (Fax)

MO, City of East Prairie/Mississippi County EC

Martha Ellen Black, Epworth Bootheel Family Learning Center, 207 N. Washington St., East Prairie, MO 63845, 573-649-3731 (Phone), 573-649-5028 (Fax)

MS, North Delta EC (Panola, Quitman, Tallahatchie Counties)

Queen Booker, North Delta Enterprise Community Development Corporation, P.O. Drawer 419, Lambert, MS 38643-0419, 601-497-1968 (Phone), 601-487-3595 (Fax)

NC, Charlotte

Ms. Deborah D. Hazzard, Neighborhood Development Department, 600 East Trade Street, Charlotte, NC 28202, 704-336-2106 (Phone), 704-336-2527 (Fax)

Stanley Watkins, Key Business Executive & Neighborhood Development, 600 East Trade Street, Charlotte, NC 28202, 704-336-3796 (Phone), 704-336-3904 (Fax)

NC, Halifax, Edgecombe, Wilson Counties EC

Barry Richardson, Halifax/Edgecombe/Wilson Empowerment Alliance, P.O. Box 99, Hollister, NC 27844, 919-586-4017, 919-586-3918

NC, Robeson County EC

Cammie Fluery, Lumber River Council of Governments, 4721 Fayetteville Rd., Lumberton, NC 28358, 910-618-5533 (Phone), 910-618-5576 (Fax)

NE, Omaha

Mr. Scott Knudsen, City of Omaha, 1819 Farnam Street, Suite 1100, Omaha, NE 68183, www.ci.omaha.ne.4s, 402-444-5381 (Phone), 402-444-6140 (Fax)

NH, Manchester

Ms. Amanda Parenteau, City of Manchester, 889 Elm Street, 5th Floor, Manchester, NH 03101, 603-624-2111 (Phone), 603-624-6308 (Fax)

NJ, Newark (EC-Strategic Planning Comm.)

Ms. Angela Corbo, Department of Administration, City Hall, Room B-16, 920 Broad Street, Newark, NJ 07102, 973-733-4331 (Phone), 973-733-3769 (Fax)

NM, Albuquerque

Ms. Sylvia Fettes, Family & Community Services Department, 400 Marquette, NW, Ste. 504, Albuquerque, NM 87103, 505-768-2860 (Phone), 505-768-3204 (Fax)

NM, La Jicarita EC (Mora, Rio, Arriba, Taos Counties)

Kelley Fahey, La Jicarita Ent. Comm., c/o Helping Hands, Inc., P.O. Box 777, Mora, NM 87732, 505-387-2293 (Phone), 505-387-2289 (Fax)

NV, Las Vegas (EC-Strategic Planning Comm.)

Ms. Yvonne Gates, Clark County Commissioners Office, 500 South Grand Central Parkway, P.O. Box 551601, Las Vegas, NV 89155-1601, 702-455-3239 (Phone), 702-383-6041 (Fax)

Ms. Jennifer Padre, Southern Nevada Enterprise Community, 500 South Grand Central Parkway, P.O. Box 551212, Las Vegas, NV 89155-1212, 702-455-5025 (Phone), 702-455-5038 (Fax)

NY, Albany/Troy/Schenectady

Mr. Anthony Tozzi, Center for Economic Growth, One Key Corp Plaza, Suite 600, Albany, NY 12207, 518-465-8975 (Phone), 518-465-6681 (Fax)

NY, Buffalo

Ms. Paula Rosner, Buffalo Enterprise Development Corporation, 617 Main Street, Buffalo, NY 14202, www.buffalodevelopment.com, 716-842-6923 (Phone), 716-842-6942 (Fax)

NY, Newburgh/Kingston

Ms. Allison Lee, The Kingston-Newburgh Enterprise Corp., 62 Grand Street, Newburgh, NY 12550, 914-569-1680 (Phone), 914-569-1630 (Fax)

NY, Rochester

Ms. Valerie Wheatley, Staff assistant to the Deputy Mayor, City of Rochester, Room 205A, City Hall, 30 Church Street, Rochester, NY 14614, 716-428-7207 (Phone), 716-428-7069 (Fax)

OH, Akron

Mr. Jerry Egan, Department of Planning & Urban Development, 166 South High Street, Akron, OH 44308-1628, www.ci.akron.oh.us/plud03.html, 330-375-2090 (Phone), 330-375-2387 (Fax)

OH, Greater Portsmouth EC—Scioto County

Alex Maksimovic, City of Portmouth Community Development Department, 740 2nd St., Portmouth, OH 45662, 614-354-5673 (Phone)

OK, Oklahoma City

Mr. Carl Friend, Oklahoma City Planning Department, 420 West Main Street, Suite 920, Oklahoma City, OK 73102, 405-297-2574 (Phone), 405-297-3796 (Fax)

OK, Southeast Oklahoma EC (Choctaw and McCurtain Counties)

Bob Yandell, Little Dixie Community Action Agency, Inc., 502 West Duke St., Hugo, OK 74743, 405-326-6441 (Phone), 405-326-6655 (Fax)

OR, Josephine County EC

Teal Kinamun, Josephine County Community Service-Comm. Action Agency, 317 Northwest B St., Grants Pass, OR 97526, 503-474-5448 (Phone), 503-474-5454 (Fax)

OR, Portland

Ms. Regena S. Warren, Multnomah County, 421 SW Sixth Avenue, Suite 700, Portland, OR 97204, www.netc.org/ec, 503-248-3691 (Phone), Ext. 28134, 503-248-3379 (Fax)

PA, City of Lock Haven EC—Clinton County

Maria Boileau, City of Lock Haven, 20 E. Church St., Lock Haven, PA 17745, 717-893-5903 (Phone), 717-893-5905 (Fax)

PA, Harrisburg EC

Ms. JoAnn Partridge, City of Harrisburg, MLK City Government Center, 10 North Second Street, Ste. 206, Harrisburg, PA 17101-1681, 717-255-6424 (Phone)

PA, Pittsburgh

Ms. Joan Blaustein, City Planning Dept., City of Pittsburgh, 200 Ross Street, 4th Floor, Pittsburgh, PA 15219, 412-255-2206 (Phone), 412-255-2838 (Fax)

RI, Providence EC

Ms. Kim Rose, Providence Plan, 56 Pine Street, Suite 3B, Providence, RI 02903, 401-455-8880 (Phone), 401-331-6840 (Fax)

SC, Charleston/North Charleston EC

Ms. Patricia W. Crawford, Housing/Community Development, 75 Calhoun Street, Division 616, Charleston, SC 29401-3506, 803-724-7347 (Phone), 803-724-7354 (Fax)

SC, Williamsburg/Lake City EC

Faith Rivers, Williamburg Enterprise Community, 147 W. Main St., Kingstree, SC 29556, 803-354-9070 (Phone), 803-354-2106 (Fax)

SD, Beadle/Spink Dakota EC, Robert Hull

Northeast South Dakota Community Action Program, 414 Third Ave., Sisseton, SD 57262, 605-698-7654 (Phone), 605-698-3038 (Fax)

TN, Fayette County/Haywood County EC

John Sicola, The Fayette Haywood Enterprise Community Steering Committee, 157 Poplar Rd., Rm. B150, Memphis, TN 38103, 901-576-4610 (Phone), 901-576-3519 (Fax)

TN, Scott/McCreary Area EC (Scott, TN and McCreary, KY)

Leslie Winningham, Scott McCreary Area Revitalization Team (SMART), 407 Industrial Lane, Suite 2, Oneida, TN 37841, 423-569-6380 (Phone), 423-569-5710 (Fax)

TX, Dallas EC

Mr. Mark Obeso, Empowerment Zone Manager, 1500 Marilla, 2B South, Dallas, TX 75201, 214-670-4897 (Phone), 214-670-0158 (Fax)

TX, San Antonio EC

Mr. Curley Spears, City of San Antonio, 419 South Main, Suite 200, San Antonio, TX 78204, 210-207-6600 (Phone), 210-886-0006 (Fax)

TX, Waco EC

Mr. Charles Daniels, City of Waco, P.O. Box 2570, Waco, TX 76702-2570, 254-750-5640 (Phone), 254-750-5880 (Fax)

UT, Ogden EC

Ms. Karen Thurber, Ogden City Neighborhood Development, 2484 Washington Blvd., Ste 211, Ogden, UT 84401, 801-629-8943 (Phone), 801-629-8902 (Fax)

VT, Burlington EC

Mr. Brian Pine, Office of Community Development, City Hall, Room 32, Burlington, VT 05401, 802-865-7232 (Phone), 802-865-7024 (Fax)

VA, Accomack EC—Northampton Counties

Monte Penney, The Economic Empowerment & Housing Corporation, P.O. Box 814, Nassawadox, VA 23413, 804-442-4509 (Phone), 804-442-7530 (Fax)

WA, Lower Yakima County Rural EC

Dave Fontara, Yakima County, 128 North Second St., Yakima, WA 98901, 509-574-1500 (Phone), 509-574-1501 (Fax)

WA, Seattle

Mr. Charles Depew, City of Seattle, Seattle Municipal Building, Second Floor, Seattle, WA 98104-1826, 206-684-0208 (Phone), 206-684-0379 (Fax)

WA, Tacoma

Dr. Shirl E. Gilbert II, Tacoma Empowerment Consortium, 1101 Pacific Avenue, Tacoma, WA 98402, 253-274-1288 (Phone), 253-274-1289 (Fax)

WV, Central Appalachia EC (Braxton, Clay, Fayette, Nicholas, Roane Counties)

Terrell Ellis, Central Appalachia Empowerment Zone, 174 Main St., P.O. Box 176, Clay, WV 51215, 304-587-2034 (Phone), 304-587-2027 (Fax)

WV, McDowell County EC

Cliff Moore, McDowell County Action Network, Route 103, Wilcoe, WV 24895, 304-448-2118 (Phone), 304-448-3287 (Fax)

WI, Milwaukee EC

Mr. Glen Mattison, Community Block Grant Administration, City Hall, Room 606, 200 East Wells Street, Milwaukee, WI 53202, 414-286-3760 (Phone), 414-286-5003 (Fax)

Round 2 Rural Empowerment Zones/Enterprise Communities Contact List As of July 1999

Empowerment Zones

CA, Desert Communities

John Thurman, Riverside County Economic Development Agency, 46-209 Oasis Street, 2nd Floor, Indio, CA 92201, 760-863-8225 (Phone)

GA, Southwest Georgia United

Kim Sheffield, Executive Director, P.O. Box 587, Cordele, GA 31010, 912-273-9111 (Phone)

IL, Southernmost Illinois Delta

Donna Raynalds, Alexander, Pulaski, and Johnson, Empowerment Zone Steering Committee 219 Rustic Campus Drive Ullin, IL 62992, 618-634-9471 (Phone), 618-634-9452 (Fax)

ND, Griggs-Steele

Irvin Rustad, Director, Lake Agassiz Regional Development Corporation 417 Main Avenue, Fargo, ND 58103, 701-235-1197 (Phone)

SD, Oglala Sioux Tribe

Darrel M. Twiss, Business and Economic Development Committee, PO Box A2, Pine Ridge, SD 57770, 605-867-5771 (Phone)

Enterprise Communities

AK, Metlakatla Indian

Timothy Gilmartin, Mayor, Metlakatla Indian Community, P.O. Box 8 Metlakatla, AK 99926-0008, 907-886-4441 (Phone), 907-886-3338 (Fax)

AZ, NM, UT, Four Corners

Larry Rodgers, Acting Chairman, c/o Division of Economic Development, Four Corners Empowerment Zone Corporation, PO Box 663, Window Rock, AZ 86515 435-678-1468 (Phone), 435-678-1464 (Fax)

CA, Central California

Zak Gonzalez, City Administrator, The Central Committee of the Central, California Enterprise Committee, 633 Sixth Street, Orange Cove, CA 93646, 209-626-5100 (Phone),

FL, Empowerment Alliance of Southwest Florida

Barbara J. Kent, Executive Director, The Community Foundation of Collier County, 2400 Tamiami Trail North, #300, Naples, FL 34103, 941-649-5000 (Phone)

HI, Molokai

Karen M. Holt, Executive Director, The Moloka'i Community Service Council, P.O. Box 1046, Kaunakakai, HI 96748, 808-553-3244 (Phone)

IN, Town of Austin

Lanny McIntosh, Town Council President, Austin Enterprise Community Board, 80 West Main Street, Austin, IN 47102, 812-794-2877 (Phone), 812-794-2859 (Fax)

KS, Wichita County

Sharla Krenzel, Director, Wichita County Economic Development, P.O. Box 345, Leoti, KS 67861, 316-375-2182 (Phone), 316-375-4350 (Fax)

KY, Bowling Green

Charlotte Mathis, Grants Manager, City of Bowling Green Housing and Community Development Department, P.O. Box 430, Bowling Green, KY 42102-0430, 502-393-3000 (Phone)

ME, City of Lewiston

John C. Bott, Grants Coordinator/Project Leader, City of Lewiston 27 Pine Street, Lewiston, ME 04240, 207-784-2951, ext. 315 (Phone), 207-784-2959 (Fax)

MI, Clare County

Timothy Wolverton, Clare County Administrator, Clare County Board of Commissioners, 225 West Main Street, Harrison, MI 48625, 517-539-2510 (Phone), 517-539-2588 (Fax)

MT, Fort Peck Assiniboine and Sioux Tribe

Susan Parker, Planning Development Center, Fort Peck Tribes, PO Box 1027, Poplar, MT 59255, 406-768-5155, ext. 321 (Phone), 406-768-5478 (Fax)

NM, City of Deming

John Strand, Administrator, City of Deming, PO Box 706, Deming, NM 88031, 505-546-8848 (Phone)

OK, Tri-County Indian Nations

Billie J. Floyd, Executive Director, Tri-County Indian Nation Community Development Corporation, Rt. 7, Box 238, Ada, OK 74820, 580-332-3257 (Phone)

PA, Fayette

Debra Hanna, National City Bank Building, Fay-Penn Economic Development Council 2 West Main Street, Suite 407, Uniontown, PA 15401, 724-437-7913 (Phone), 724-437-7315 (Fax)

SC, Allendale County ALIVE

Joe Vuknic, Chairman, P.O. Box 25, Allendale, SC 29810, 803-584-7117 (Phone)

TN, Clinch-Powell

Marvin Hammond, Chairman, Clinch-Powell Resource Conservation & Development Council, PO Box 379, Rutledge, TN 37861, 423-828-5927 (Phone), 423-828-5212 (Fax)

TX, Futuro

Tammye Carpinteyro, Economic Development Director, Middle Rio Grande Development Foundation, Inc., 101 Courthouse Square, Cotulla, TX 78014, 830-879-4212 (Phone), 830-879-3267 (Fax)

WA, Five Star

Mr. Warren Jimenez, Tri-County Economic Development District, 347 West Second, Suite A, Colville, WA 99114, 509-684-4571 (Phone), 509-684-4788 (Fax)

WI, Northwoods Nijii

Gale Kruger, Executive Director-Office of Economic Development, Menominee Indian Tribe of Wisconsin, 4 Loop Road, P.O. Box 910, Keshena, WI 54135-0910, 715-799-5128 (Phone), 715-799-4525 (Fax)

WV, Upper Kanawha Valley

Gregory K. Lipscomb, AICP, The Kanawha County Commission, East Kanawha County Courthouse, 407 Virginia Street, Charleston, WV 25336, 304-357-0570 (Phone)

[FR Doc. 00-30191 Filed 11-27-00; 8:45 am]

BILLING CODE 4210-33-P